FEDERAL COMMUNICATIONS COMMISSION

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before November 25, 2013. If you anticipate that you will be submitting comments, but find it difficult to do so within the period of time allowed by this notice, you should advise the contact listed below as soon as possible.

ADDRESSES: Direct all PRA comments to Cathy Williams, FCC, via email PRA@fcc.gov<mailto:PRA@fcc.gov> and to Cathy.Williams@fcc.gov<mailto:Cathy.Williams@fcc.gov>.

FOR FURTHER INFORMATION CONTACT: For additional information about the information collection, contact Cathy Williams at (202) 418-2918.

SUPPLEMENTARY INFORMATION: OMB Control Number: 3060-1089.

Title: Telecommunications Relay Services and Speech-to-Speech Services for Individuals with Hearing and Speech Disabilities; E911 Requirements for IP-Enabled Service Providers; Internet-Based Telecommunications Relay Service Numbering, CG Docket No. 03-123, WC Docket No. 05-196, and WC Docket No. 10-191; FCC 08-151, FCC 08-275, FCC 11-123.

Form Number: N/A.

Type of Review: Revision of a currently approved collection.

Respondents: Business or other for-profit entities; Not-for-profit institutions; Individuals or households; State, local or tribal government.

Number of Respondents and Responses: 8 respondents; 2,495,002 responses.

Estimated Time per Response: 0.25 hours (15 minutes) to 1.5 hours.

Frequency of Response: On occasion and one-time reporting requirements; Recordkeeping and third party disclosure requirements; Quarterly reporting requirement.

Obligation to Respond: Required to obtain or retain benefits. The statutory authority for the collection is contained in Sections 1, 4(i), 4(j), 225, 251 (e), and 255 of the Communications Act of 1934, as amended, 47 U.S.C. 151, 154(i), 154(j), 225, 251(e), and 255.

Total Annual Burden: 99,221 hours. Total Annual Cost: $4,269,135.

Nature and Extent of Confidentiality: An assurance of confidentiality is not offered because this information collection does not require the collection of personally identifiable information from individuals.

Privacy Impact Assessment: No impact(s).

Needs and Uses: On August 4, 2011 the Commission released Report and Order FCC 11-123, published at 76 FR 59551, September 27, 2011, adopting final rules-containing information collection requirements-designed to improve assignment of telephone numbers associated with Internet-based Telecommunications Relay Service (iTRS). Specifically, the final rules, described below are designed to promote the use of geographically appropriate local numbers, while ensuring that the deaf and hard-of-hearing community has access to toll free telephone numbers that is equivalent to access enjoyed by the hearing community.

Below are the new and revised information collection requirements contained in the Report and Order:

A. Provision of Routing Information

In addition to provisioning their registered users' routing information to the TRS Numbering Directory and maintaining such information in the database, the VRS and IP relay providers must ensure that the toll free number of a user that is associated with a geographically appropriate NANP number will be associated with the same Uniform Resource Identifier URI as that geographically appropriate NANP telephone number.

B. User Notification

In addition to the information that the Commission previously instructed VRS and IP Relay providers to include in the consumer advisories, VRS and IP Relay providers must also include certain additional information in their consumer advisories under the Report and Order. Specifically, the consumer advisories must explain: (1) the process by which a VRS or IP Relay user may acquire a toll free number from a toll free service provider, or transfer control of a toll free number from a VRS or IP Relay provider to the user; and (2) the process by which persons holding a toll free number may have that number linked to their ten-digit telephone number in the TRS Numbering Directory.

Federal Communications Commission.
Marlene H. Dortch,
Secretary, Office of the Secretary, Office of Managing Director.

[FR Doc. 2013-23237 Filed 9-24-13; 8:45 am]

BILLING CODE 6712-01-P